DEPARTMENT OF ENERGY

Federal Energy Regulatory Commission

[Docket Nos. RP99-322-000 and RP96-45-000]

Northern Border Pipeline Company; Notice of Informal Settlement Conference

February 18, 2000.

Take notice that an informal settlement conference will be convened in these proceedings on February 28 and 29, 2000, commencing on February 28, 2000 at 1:00 p.m., at the offices of the Federal Energy Regulatory Commission, 888 First Street, NE, Washington, DC 20426, for the purpose of exploring the possible settlement of the issues and drafting possible settlement documents in this proceeding.

Any party, as defined by 18 CFR 385.102(2), or any participant as defined by 18 CFR 385.102(b), is invited to attend. Persons wishing to become a party must move to intervene and receive intervenor status pursuant to the Commission's regulations (18 CFR 385.214).

For additional information, contact Marc G. Denkinger, (202) 208-2215; William J. Collins, (202) 208-0248; or Joel M. Cockrell, (202) 208-1184.

Linwood A. Watson, Jr.,
Acting Secretary.

[FR Doc. 00-4448 Filed 2-24-00; 8:45 am]

BILLING CODE 6717-01-M